DEPARTMENT OF ENERGY

Federal Energy Regulatory Commission

[Docket No. OR07-4-000]

BP West Coast Products LLC, Chevron Products Company, and ExxonMobil Oil Corporation Complainants, v. SFPP, L.P., Kinder Morgan GP, Inc., and Kinder Morgan Inc., Respondent; Notice of Complaint

January 9, 2007.

Take notice that on January 5, 2007, BP West Coast Products LLC (BPWCP) and ExxonMobil Oil Corporation (ExxonMobil) (together, Complainants) hereby submit both jointly and severally, a Fifth Original Complaint against SFPP, L.P. (SFPP), Kinder Morgan GP, Inc. (KMGP Inc) and Kinder Morgan Inc. (KIM) and First Amended Fourth Complaint, challenging the justness and reasonableness of rates on SFPP's West Line, Sepulveda Line, North Line, Oregon Line and East Line, and (conditionally only), the Watson Vapor Recovery Facilities rate. Chevron Products Company joins in this complaint as a complainant, tendering its Fifth Original Complaint, supplementing all prior Chevron and Texaco Refining & Marketing Inc. complaints. On January 8, 2007, the Complainants and Chevron Products Company filed a revised Table of Contents and Table of Authorities with corrected page references, and a transmittal letter to the Secretary that was inadvertently omitted from the January 5, 2007 filing.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 5, 2007.

Magalie R. Salas,
Secretary.

[FR Doc. E7-448 Filed 1-12-07; 8:45 am]

BILLING CODE 6717-01-P